DEPARTMENT OF COMMERCE

International Trade Administration

[A-588-878]

Glycine From Japan: Preliminary Results and Rescission, in Part, of Antidumping Duty Administrative Review, 2023-2024; and Preliminary Successor-in-Interest Determination

AGENCY: Enforcement and Compliance, International Trade Administration, Department of Commerce.

SUMMARY: The U.S. Department of Commerce (Commerce) preliminarily finds that producers or exporters subject to this administrative review made sales of subject merchandise at less than normal value during the period of review June 1, 2023, through May 31, 2024. We invite interested parties to comment on these preliminary results.

DATES: Applicable September 19, 2025.

FOR FURTHER INFORMATION CONTACT: Natasia Byrd and Jinny Ahn, AD/CVD Operations, Office VI, Enforcement and Compliance, International Trade Administration, U.S. Department of Commerce, 1401 Constitution Avenue NW, Washington, DC 20230; telephone: (202) 482-1240 and (202) 482-0339, respectively.

SUPPLEMENTARY INFORMATION:

Background

On June 21, 2019, Commerce published the antidumping duty order on glycine from Japan.¹ On June 3, 2024, Commerce published in the Federal Register a notice of opportunity to request an administrative review of the Order.² On July 29, 2024, Commerce published the notice of initiation of the administrative review of the Order.³ On December 9, 2024, Commerce tolled certain deadlines in this administrative proceeding by 90 days.⁴ On May 15, 2025, Commerce extended the time limit for these preliminary results to September 12, 2025, in accordance with section 751(a)(3)(A) of the Tariff Act of 1930, as amended (the Act).⁵

¹ See Glycine from India and Japan: Amended Final Affirmative Antidumping Duty Determination and Antidumping Duty Orders, 84 FR 29170 (June 21, 2019) (Order).

² See Antidumping or Countervailing Duty Order, Finding, or Suspended Investigation; Opportunity to Request Administrative Review and Join Annual Inquiry Service List, 89 FR 47518, 47520 (June 3, 2024).

³ See Initiation of Antidumping and Countervailing Duty Administrative Reviews, 89 FR 60871, 60875 (July 29, 2024).

⁴ See Memorandum, “Tolling of Deadlines for Antidumping and Countervailing Duty Proceedings,” dated December 9, 2024.

⁵ See Memorandum, “Extension of Deadline for Preliminary Results,” dated May 15, 2025.

For a complete description of the events following the initiation of this administrative review, see the Preliminary Decision Memorandum.⁶ A list of the topics discussed in the Preliminary Decision Memorandum is attached as an appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

⁶ See Memorandum, “Decision Memorandum for Preliminary Results of the Administrative Review of the Antidumping Duty on Glycine from Japan; 2023-2024,” dated concurrently with, and hereby adopted by, this notice (Preliminary Decision Memorandum).

Scope of the Order

The merchandise subject to the Order is glycine. For a complete description of the scope of the Order, see the Preliminary Decision Memorandum.⁷

⁷ Id.

Rescission of Administrative Review, in Part

Pursuant to 19 CFR 351.213(d)(1), Commerce will rescind an administrative review, in whole or in part, if the parties that requested a review withdraw the request within 90 days of the date of publication of the notice of initiation. On October 25, 2024, Chattem Chemicals, Inc. (the petitioner) withdrew its request for review of various companies, inter alia, Megmilk Snow Brand Co. Ltd., Resonac Holdings Corporation, and Snow Brand Seed Co. Ltd.⁸ Because the request for review of Megmilk Snow Brand Co. Ltd., Resonac Holdings Corporation, and Snow Brand Seed Co. Ltd was timely withdrawn, and because no other parties requested a review of these companies, in accordance with 19 CFR 351.213(d)(1), Commerce is rescinding this review with respect to: (1) Megmilk Snow Brand Co. Ltd., (2) Resonac Holdings Corporation, and (3) Snow Brand Seed Co. Ltd.

⁸ See Petitioner's Letter, “Partial Withdrawal of Request for Administrative Review, dated October 25, 2025. The petitioner also withdrew its request for review for Showa Denko K.K. Although the petitioner is the only party to have requested a review of Showa Denko K.K., given that we are preliminarily determining that “Resonac Corporation” is the successor in interest to “Showa Denko K.K.,” as discussed below, we are not rescinding the review with respect to Showa Denko K.K.

Methodology

Commerce is conducting this review in accordance with section 751(a)(2) of the Act. Export price and constructed export price are calculated in accordance with section 772 of the Act. Normal value is calculated in accordance with section 773 of the Act. For a full description of the methodology underlying our conclusions, see the Preliminary Decision Memorandum.

Preliminary Successor-in-Interest Determination

On August 9, 2024, Resonac Corporation requested in another segment of this proceeding that Commerce initiate a successor-in-interest changed circumstances review, which it filed on the record of this administrative review on October 1, 2024.⁹ Resonac Corporation stated that changed circumstances are sufficient to warrant such a review because Showa Denko K.K. had changed its name to Resonac Corporation, as of January 1, 2023.¹⁰ We did not initiate a separate changed circumstances review, but instead, are evaluating Resonac Corporation's request as part of this administrative review.¹¹ Based on our analysis of the information on the record, we preliminarily determine Resonac Corporation to be the successor-in-interest to Showa Denko K.K. See the Preliminary Decision Memorandum and CCR Analysis Memorandum for further information.

⁹ See Resonac's Letter, “Glycine from Japan: Request for a Changed Circumstances Review,” dated October 1, 2024.

¹⁰ Id.

¹¹ See Memorandum, “Request for Changed Circumstances Review, Resonac Corporation,” dated September 23, 2024 (CCR Analysis Memorandum).

Application of Facts Available With Adverse Inference

Pursuant to section 776(a) of the Act, Commerce is preliminarily relying upon facts otherwise available to determine a weighted-average dumping margin for Resonac Corporation because: (1) necessary information is not available on the record; and (2) Resonac Corporation withheld requested information, failed to provide such information by the established deadlines, and significantly impeded this proceeding. Further, Commerce preliminarily determines that an adverse inference is warranted in selecting from among the facts otherwise available pursuant to section 776(b) of the Act because Resonac Corporation failed to cooperate to the best of its ability. For further information, see section, “Application of Facts Available and Use of Adverse Inferences” in the Preliminary Decision Memorandum.

Preliminary Results of Review

We preliminarily determine that the following estimated weighted-average dumping margins exist for the period June 1, 2023, through May 31, 2024.

Producer/exporter | Weighted- average dumping margin (percent)
Yuki Gosei Kogyo Co., Ltd./Nagase & Co., Ltd.¹² | 9.84
Resonac Corporation | 86.22

Disclosure

¹² Commerce previously determined that Nagase & Co., Ltd. and Yuki Gosei Kogyo Co., Ltd. are affiliated within the meaning of section 771(33)(E) of the Act and should be treated as a single entity pursuant to 19 CFR 351.401(f). See Glycine from Japan: Final Results of Antidumping Duty Administrative Review; 2021-2022, 88 FR 88052, 88053 (December 20, 2023) at footnote 5. We have received no information in this administrative review that would change our finding for the purposes of these preliminary results of review.

Commerce intends to disclose to interested parties its calculations and analysis performed in these preliminary results, within five days of any public announcement or, if there is no public announcement, within five days of the date of publication of this notice in the Federal Register, in accordance with 19 CFR 351.224(b).

Public Comment

Case briefs or other written comments may be submitted to the Assistant Secretary for Enforcement and Compliance.¹³ Pursuant to 19 CFR 351.309(c)(1)(ii), we have modified the deadline for interested parties to submit case briefs to Commerce no later than 21 days after the date of the publication of this notice. Rebuttal briefs, limited to issues raised in the case briefs, may be filed not later than five days after the date for filing case briefs.¹⁴ Interested parties who submit case briefs or rebuttal briefs in this proceeding must submit: (1) a table of contents listing each issue; and (2) a table of authorities.¹⁵

¹³ See 19 CFR 351.309(c)(1)(ii); see also 19 CFR 351.303 (for general filing requirements).

¹⁴ See 19 CFR 351.309(d); see also Administrative Protective Order, Service, and Other Procedures in Antidumping and Countervailing Duty Proceedings, 88 FR 67069, 67077 (September 29, 2023) (APO and Service Procedures).

¹⁵ See 19 CFR 351.309(c)(2) and (d)(2).

As provided under 19 CFR 351.309(c)(2) and (d)(2), in prior proceedings we have encouraged interested parties to provide an executive summary of their brief that should be limited to five pages total, including footnotes. In this administrative review, we instead request that interested parties provide, at the beginning of their briefs, a public executive summary for each issue raised in their briefs.¹⁶ Further, we request that interested parties limit their public executive summary of each issue to no more than 450 words, not including citations. We intend to use the public executive summaries as the basis of the comment summaries included in the issues and decision memorandum that will accompany the final determination in this investigation. We request that interested parties include footnotes for relevant citations in the public executive summary of each issue. Note that Commerce has amended certain of its requirements pertaining to the service of documents in 19 CFR 351.303(f).¹⁷

¹⁶ We use the term “issue” here to describe an argument that Commerce would normally address in a comment of the Issues and Decision Memorandum.

¹⁷ See APO and Service Procedures.

Pursuant to 19 CFR 351.310(c), interested parties who wish to request a hearing must submit a written request to the Assistant Secretary for Enforcement and Compliance, U.S. Department of Commerce, within 30 days after the date of publication of this notice. Requests should contain: (1) the party's name, address, and telephone number; (2) the number of participants and whether any participant is a foreign national; and (3) a list of the issues to be discussed. Issues raised in the hearing will be limited to those raised in the respective case briefs. Oral presentations at the hearing will be limited to issues raised in the briefs. If a request for a hearing is made, parties will be notified of the time and date for the hearing.¹⁸ Parties should confirm by telephone the date, time, and location of the hearing two days before the scheduled date.

¹⁸ See 19 CFR 351.310(d).

All submissions, including case and rebuttal briefs, as well as hearing requests, should be filed via ACCESS.¹⁹ An electronically filed document must be received successfully in its entirety by ACCESS by 5:00 p.m. Eastern Time on the established deadline.

¹⁹ See 19 CFR 351.303.

Final Results of Review

Commerce intends to issue the final results of this administrative review, including the results of its analysis of the issues raised in any written briefs, no later than 120 days after the date of publication of this notice in the Federal Register, unless extended, pursuant to section 751(a)(3)(A) of the Act and 19 CFR 351.213(h)(1).

Assessment Rates

Upon completion of the final results, Commerce shall determine, and U.S. Customs and Border Protection (CBP) shall assess, antidumping duties on all appropriate entries.²⁰ If the weighted-average dumping margin for Yuki Gosei Kogyo Co., Ltd./Nagase & Co., Ltd. is not zero or de minimis (i.e., less than 0.5 percent) in the final results of this review, we will calculate an importer-specific assessment rate. Where the respondent reported reliable entered values, Commerce intends to calculate importer/customer-specific ad valorem assessment rates on the basis of the ratio of the total amount of dumping calculated for each importer's examined sales and the total entered value of such sales in accordance with 19 CFR 351.212(b)(1).²¹ Where the respondent did not report entered values, in accordance with 19 CFR 351.212(b)(1), Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported. Where an importer/customer-specific ad valorem assessment rate is not zero or de minimis, Commerce will instruct CBP to collect the appropriate duties at the time of liquidation. If Yuki Gosei Kogyo Co., Ltd./Nagase & Co., Ltd.'s weighted-average dumping margin is zero or de minimis in the final results of review, or if an importer-specific assessment rate for one of these companies is zero or de minimis, Commerce will instruct CBP to liquidate appropriate entries without regard to antidumping duties.²² For entries of subject merchandise during the period of review produced by any of these companies for which it did not know its merchandise was destined for the United States, we will instruct CBP to liquidate unreviewed entries.²³

²⁰ See 19 CFR 351.303.

²¹ See Antidumping Proceedings: Calculation of the Weighted-Average Dumping Margin and Assessment Rate in Certain Antidumping Proceedings: Final Modification, 77 FR 8101, 8103 (February 14, 2012).

²² Id., 77 FR at 8102-03; see also 19 CFR 351.106(c)(2).

²³ See Antidumping and Countervailing Duty Proceedings: Assessment of Antidumping Duties, 68 FR 23954 (May 6, 2003).

For Megmilk Snow Brand Co., Ltd., Resonac Holdings Corporation, and Snow Brand Seed Co., Ltd., for which we are rescinding this administrative review, antidumping duties shall be assessed at rates equal to the cash deposit of estimated antidumping duties required at the time of entry, or withdrawal from warehouse, for consumption, during the period of review, in accordance with 19 CFR 351.212(c)(1)(i). For Megmilk Snow Brand Co., Ltd., Resonac Holdings Corporation, and Snow Brand Seed Co., Ltd., Commerce intends to issue assessment instructions to CBP no earlier than 35 days after the date of publication of these preliminary results in the Federal Register.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this administrative review shall be the basis for the assessment of antidumping duties on entries of merchandise under review and for future cash deposits of estimated antidumping duties, where applicable.²⁴

²⁴ See section 751(a)(2)(C) of the Act.

Cash Deposit Requirements

The following cash deposit requirements will be effective upon publication in the Federal Register of the notice of final results of administrative review for all shipments of glycine from Japan entered, or withdrawn from warehouse, for consumption on or after the date of publication as provided by section 751(a)(2) of the Act: (1) the cash deposit rate for the company listed above will be equal to the weighted-average dumping margin established in the final results of this administrative review, except if the rate is less than 0.50 percent and therefore, de minimis within the meaning of 19 CFR 351.106(c)(1), in which case the cash deposit rate will be zero; (2) for previously reviewed or investigated companies not covered in this review, the cash deposit rate will continue to be the company-specific rate published for the most recently-completed segment of this proceeding in which the company was reviewed; (3) if the exporter is not a firm covered in this review, a prior review, or the original investigation but the producer is, the cash deposit rate will be the rate established in the completed segment for the most recent period for the producer of the merchandise; (4) the cash deposit rate for all other producers or exporters will be 53.66 percent, the all-others rate established in the less-than-fair-value investigation.²⁵ These cash deposit requirements, when imposed, shall remain in effect until further notice.

²⁵ See Order.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act, and 19 CFR 351.221.

Dated: September 12, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Preliminary Successor-in-Interest Determination

V. Application of Facts Available and Use of Adverse Inferences

VI. Affiliation

VII. Discussion of the Methodology

VIII. Currency Conversion

IX. Recommendation

[FR Doc. 2025-18132 Filed 9-18-25; 8:45 am]

BILLING CODE 3510-DS-P